DEPARTMENT OF HEALTH AND HUMAN SERVICES

Health Care Financing Administration

[Document Identifier: HCFA-10006]

Notice; Correction

SUMMARY: In the Federal Register issue of Tuesday, June 6, 2000, make the following correction:

Correction

In the Federal Register issue of Tuesday, June 6, 2000, Volume 65: FR Doc. 00-14263, on page 35947, the fourth sentence of the first paragraph in column 1 (beginning “Prior to that time”) should be deleted and replaced with the following sentence: “Prior to that time, we must send a State Medicaid Directors letter soliciting applications and have sufficient time to review all applications adequately.”

Dated: June 8, 2000.
Victoria Quigley,
Acting Manager, HCFA Office of Information Services, Security and Standards Group, Division of HCFA Enterprise Standards.

[FR Doc. 00-15799 Filed 6-21-00; 8:45 am]

BILLING CODE 4120-03-M